DEPARTMENT OF AGRICULTURE

Food and Nutrition Service

Agency Information Collection Activities: Proposed Collection; Comment Request—Information Collection for the National School Lunch Program

AGENCY: Food and Nutrition Service (FNS), USDA.

ACTION: Notice.

SUMMARY: In accordance with the Paperwork Reduction Act of 1995, this notice invites the general public and other public agencies to comment on this information collection. This is a revision of a currently approved collection which FNS employs to determine public participation in the National School Lunch Program.

DATES: Written comments must be received on or before September 23, 2019.

ADDRESSES: Comments may be sent to: Tina Namian, School Programs Branch, Policy and Program Development Division, Food and Nutrition Service, U.S. Department of Agriculture, 3101 Park Center Drive, Room 1206, Alexandria, VA 22302-1594. Comments may also be submitted via fax to the attention of Tina Namian at 703-305-6294 or via email to cndinternet@fns.usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Tina Namian at 703-305-2590.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 210, National School Lunch Program.

Forms: FNS-10, FNS-13, FNS-640, FNS-777, and FNS-828.

OMB Control Number: 0584-0006.

Expiration Date: September 30, 2019.

Type of Request: Revision of a currently approved collection.

Abstract: The Richard B. Russell National School Lunch Act (NSLA), as amended, authorizes the National School Lunch Program (NSLP) to safeguard the health and well-being of the nation's children and provide free or reduced price school lunches to qualified students through subsidies to schools. The United States Department of Agriculture (USDA)/Food and Nutrition Service (FNS) provides States with general and special cash assistance and donations of foods to assist schools in serving nutritious lunches to children each school day. Participating schools must serve lunches that are nutritionally adequate and maintain menu and food production records to demonstrate compliance with the meal requirements.

Section 10 of the Child Nutrition Act of 1966 (42 U.S.C. 1779) requires the Secretary of Agriculture to prescribe such regulations as deemed necessary to carry out this Act and the NSLA (42 U.S.C. 1751 et seq.). Pursuant to that provision, the Secretary has issued 7 CFR part 210, which sets forth policies and procedures for the administration and operation of the NSLP. The Program is administered at the State and school food authority (SFA) levels and operations include the submission of applications and agreements, submission of the number of meals served and payment of claims, submission of data from required monitoring reviews conducted by the State agency, and maintenance of records. State and local operators of the NSLP are required to meet Federal reporting and accountability requirements and are also required to maintain records that include school food service accounts of revenues and expenditures.

The reporting, recordkeeping, and public notification burden associated with this revision decreased from 10,030,000 to 9,808,439 hours. This change is due to the removal of public notification burden that occurred only once and decreases in the number of schools and SFAs participating in the Program. Other changes include the addition of 304,640 hours of recordkeeping burden originating from the “Administrative Reviews in the School Nutrition Programs” Final Rule (RIN 0584-AE30) (published in the Federal Register on July 29, 2016), which have not been accounted for in the burden. This change accounts for the time needed for State agencies to conduct an administrative review and maintain the associated documentation. This renewal also includes the addition of 56 hours of reporting burden to account for the quarterly performance-based reimbursement report, which was mistakenly removed during the previous renewal.

FNS collects program data from the State agencies on Forms FNS-10 Report of School Operations, FNS-13 Annual Report of State Revenue Matching, FNS-640 Administrative Review Data Report Form, FNS-777 Financial Status Report, and FNS-828 School Food Authority Paid Lunch Price Report. These forms are approved under OMB Control # 0584-0594 Food Program Reporting System (FPRS), which expires September 30, 2019. The reporting burden associated with these reports is covered under #0584-0594 and is not associated with this information collection. However, the recordkeeping burden is still maintained in this collection.

This information collection is required to administer and operate this program in accordance with the NSLA. This is a revision of the currently approved information collection.

Affected Public: (1) State agencies; (2) school food authorities; and (3) schools.

Number of Respondents: 115,935 (56 State agencies, 19,019 school food authorities, and 96,860 schools.)

Number of Responses per Respondent (Reporting): 4.2543.

Total Annual Responses: 493,226.

Reporting time per Response: 0.6937.

Estimated Annual Reporting Burden: 342,130.

Number of Recordkeepers: 115,935 (56 State agencies, 19,019 school food authorities, and 96,860 schools.)

Number of Records per Record Keeper: 406.2685.

Estimated Total Number of Records: 47,100,736.

Recordkeeping time per Response: 0.1999.

Total Estimated Recordkeeping Burden: 9,414,007.

Number of Respondents (Public Notification): 19,075 (56 State agencies and 19,019 school food authorities).

Number of Responses per Respondent (Public Notification): 1.6612.

Total Annual Responses: 31,687.

Reporting time per Response: 1.6506.

Estimated Annual Public Notification Burden: 52,301.

Annual Reporting, Recordkeeping, and Public Notification Burden: 9,808,439.

Current OMB Inventory for Part 210: 10,030,000.

Difference (change in burden with this renewal): −221,561

Refer to the table below for estimated total annual burden for each type of respondent.

Affected public | Estimated number of respondents | Number of responses per respondent | Total annual responses | Estimated average hours per response | Estimated total burden (hours)
Reporting
State Agencies | 56 | 119 | 6,664 | 7.6345 | 50,876
School Food Authorities | 19,019 | 15 | 292,842 | 0.928428 | 271,882
Schools | 96,860 | 2 | 193,720 | 0.1 | 19,372
Total Estimated Reporting Burden | 115,935 |  | 493,226 |  | 342,130
Recordkeeping
State Agencies | 56 | 1,475 | 82,619 | 5.1556 | 425,949
School Food Authorities | 19,019 | 21 | 399,399 | 4.3338 | 1,730,919
Schools | 96,860 | 481 | 46,618,718 | 0.15567 | 7,257,139
Total Estimated Recordkeeping Burden | 115,935 |  | 47,100,736 |  | 9,414,007
Public Notification
State Agencies | 56 | 113 | 6,328 | .25 | 1,582
School Food Authorities | 19,019 | 1.3334 | 25,359 | 2 | 50,719
Total Estimated Public Notification Burden | 19,075 |  | 31,687 |  | 52,301
Total of Reporting, Recordkeeping, and Public Notification
Reporting | 115,935 | 4.2543 | 493,226 | 0.6936588 | 342,130
Recordkeeping | 115,935 | 406.2685 | 47,100,736 | 0.19986964 | 9,414,007
Public Notification | 19,075 | 1.6612 | 31,687 | 1.6506 | 52,301
Total |  |  | 47,625,649 |  | 9,808,439

Dated: July 12, 2019.
Brandon Lipps,
Administrator, Food and Nutrition Service.

[FR Doc. 2019-15668 Filed 7-23-19; 8:45 am]

BILLING CODE 3410-30-P